FEDERAL COMMUNICATIONS COMMISSION

47 CFR Part 54

[WC Docket Nos. 10-90, 14-58 and CC Docket No. 01-92; Report No. 3049]

Petition for Reconsideration and Clarification of Action in Rulemaking Proceeding

AGENCY: Federal Communications Commission.

ACTION: Petition for reconsideration and clarification.

SUMMARY: A Petition for Reconsideration and Clarification (Petition) has been filed in the Commission's rulemaking proceeding by Paul Stark on behalf of Baraga Telephone Company.

DATES: Oppositions to the Petition must be filed on or before September 2, 2016. Replies to an opposition must be filed on or before September 12, 2016.

ADDRESSES: Federal Communications Commission, 445 12th Street SW., Washington, DC 20554.

FOR FURTHER INFORMATION CONTACT: Suzanne Yelen, Wireline Competition Bureau, (202) 418-0626, email: Suzanne.Yelen@fcc.gov.

SUPPLEMENTARY INFORMATION: This is a summary of the Commission's document, Report No. 3049, released August 10, 2016. The full text of the Petition is available for viewing and copying at the FCC Reference Information Center, 445 12th Street SW., Room CY-A257, Washington, DC 20554 or may be accessed online via the Commission's Electronic Comment Filing System at http://apps.fcc.gov/ecfs/. The Commission will not send a copy of this Notice pursuant to the Congressional Review Act, 5 U.S.C. 801(a)(1)(A), because this Notice does not have an impact on any rules of particular applicability.

Subject: Connect America Fund; ETC Annual Reports and Certifications; Developing a Unified Intercarrier Compensation Regime, FCC 16-33, published at 81 FR 24282, April 25, 2016, in WC Docket Nos. 10-90 and 14-58; CC Docket No. 01-92. This Notice is being published pursuant to 47 CFR 1.429(e). See also 47 CFR 1.4(b)(1) and 1.429(f), (g).

Number of Petitions Filed: 1.

Federal Communications Commission.
Marlene H. Dortch,
Secretary.

[FR Doc. 2016-19739 Filed 8-17-16; 8:45 am]

BILLING CODE 6712-01-P